DEPARTMENT OF JUSTICE

Notice of Lodging of Proposed Consent Decree Under the Clean Water Act

On August 18, 2023, the Department of Justice lodged a proposed consent decree with the United States District Court for the Southern District of New York in the lawsuit entitled United States v. Mark Ford, Mark Ford Stables, Inc., Mark Ford Stage Road Property, Inc., and Ford Equine Ltd., Civil Action No. 19 Civ. 9600.

The United States filed this lawsuit seeking injunctive relief and civil penalties for violations of the Clean Water Act resulting from the defendants' unpermitted filling of wetlands and channelization of streams, unpermitted discharge of process wastewater and other pollutants from a Concentrated Animal Feeding Operation, and violation of the terms of a construction stormwater permit. The consent decree requires the defendant to perform injunctive relief, including the restoration of approximately eighteen acres of wetlands and the restoration of two streams, and to pay a $200,000.00 civil penalty.

The publication of this notice opens a period for public comment on the consent decree. Comments should be addressed to the Assistant Attorney General, Environment and Natural Resources Division, and should refer to United States v. Mark Ford, et al., D.J. Ref. No. 90-5-1-1-11797. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $7.75 (25 cents per page reproduction cost) payable to the United States Treasury.

Patricia McKenna,
Assistant Section Chief, Environmental Enforcement Section, Environment and Natural Resources Division.

[FR Doc. 2023-18198 Filed 8-23-23; 8:45 am]

BILLING CODE 4410-15-P